DEPARTMENT OF AGRICULTURE

Animal and Plant Health Inspection Service

9 CFR Part 3

[Docket No. 04-088-1]

RIN 0579-ZA01

Animal Welfare; Standards for Ferrets

AGENCY: Animal and Plant Health Inspection Service, USDA.

ACTION: Notice of petition and request for comments.

SUMMARY: We are notifying the public that the Animal and Plant Health Inspection Service has received a petition requesting that specific standards be promulgated for the humane handling, care, treatment, and transportation of domestic ferrets. We are soliciting comments from the public regarding the petition, and whether we should continue to regulate the handling, care, treatment, and transportation of ferrets covered by the Animal Welfare Act under the general standards in the regulations, or promulgate specific standards for ferrets. We are also requesting comments regarding what should be included in any such standards.

DATES: We will consider all comments that we receive on or before October 4, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 04-088-1, Regulatory Analysis and Development, PPD, APHIS, Station 3C71, 4700 River Road Unit 118, Riverdale, MD 20737-1238. Please state that your comment refers to Docket No. 04-088-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. Jerry DePoyster, Senior Veterinary Medical Officer, Animal Care, APHIS, 4700 River Road Unit 84, Riverdale, MD 20737-1234; (301) 734-7586.

SUPPLEMENTARY INFORMATION:

Background

Under the Animal Welfare Act (AWA) (7 U.S.C. 2131 et seq.), the Secretary of Agriculture is authorized to promulgate standards and other requirements governing the humane handling, care, treatment, and transportation of certain animals by dealers, research facilities, exhibitors, operators of auction sales, and carriers and intermediate handlers. The definition of “animal” in the AWA is, in part: “* * * any live or dead dog, cat, monkey (nonhuman primate mammal), guinea pig, hamster, rabbit, or such other warmblooded animal as the Secretary may determine is being used, or is intended for use, for research, testing, experimentation, or exhibition purposes, or as a pet.” This definition excludes “(1) birds, rats of the genus Rattus, and mice of the genus Mus, bred for use in research, (2) horses not used for research purposes, and (3) other farm animals, such as, but not limited to livestock and poultry, used or intended for use as food or fiber, or livestock or poultry used or intended for use for improving animal nutrition, breeding, management, or production efficiency, or for improving the quality of food or fiber.” (7 U.S.C. 2132(g).)

Within the United States Department of Agriculture, responsibility for enforcing the AWA has been delegated to the Administrator of the Animal and Plant Health Inspection Service (APHIS). Within APHIS, the responsibility for enforcing the AWA has been delegated to the Deputy Administrator for Animal Care. Regulations established under the AWA are contained in the Code of Federal Regulations (CFR) in 9 CFR parts 1 and 2, and 9 CFR part 3 contains standards for the humane handling, care, treatment, and transportation of animals covered by the AWA. Currently, part 3 consists of subparts A through E, which contain specific standards for dogs and cats, guinea pigs and hamsters, rabbits, nonhuman primates, and marine mammals, respectively, and subpart F, which sets forth general standards for warmblooded animals not otherwise specified in that part.

In a petition dated March 10, 2004, the International Ferret Congress requested that APHIS develop and promulgate specific standards for the care and handling of domestic ferrets (Mustela furo). Currently, the standards that apply to domestic ferrets are set forth in part 3, Subpart F. The petition in its entirety states:

International Ferret Congress

Sandra C. Kudrak, DVM, DABVP

Ferret Wise Rescue and Rehabilitation Shelter

West Central Ohio Ferret Shelter

Ferret Lovers Club of Texas

Maryland Ferret PAWS, Inc.

Support Our Shelters

Ferret Rescue of Maine

Submitted to Mr. Bobby Acord, Administrator of the Animal Plant Health Inspection Service and Ms. Ann M Veneman, Secretary of the United States Department of Agriculture

Dear Sir and Madam: We are petitioning the United States Department of Agriculture regarding the lack of adequate protection for the domestic ferret (Mustela furo) under the current provisions of the Animal Welfare Act.

Currently, the domestic ferret is considered to be one of the most popular companion animals in the United States as well as around the world. Sadly, the protection afforded to it by the Animal Welfare Act does not take into account the specific biological, physiological, and social needs of this animal in a manner consistent with other household pets such as cats and dogs. Given practices such as early and forced weaning, ferret kits are being shipped too young, resulting in large numbers of animals become ill during or shortly after transport. Many more animals develop significant behavioral abnormalities (such as aggression not normally seen in ferrets) because their inherent needs are not being met during weaning and transportation process. Additionally, ferret kits are arriving to pet stores malnourished and ill. Starvation, pneumonia, prolapsed rectums, and seizures are regularly documented.

These animals, because of behavior problems, are being relinquished in large numbers to shelters and private individuals willing to attempt to rehabilitate them. Unfortunately, many are unable to recover to a state which makes them adoptable, causing a huge burden on the shelters as well as the general public.

The lack of protection afforded to this animal is contrary to both the language and Congressional intent of the Animal Welfare Act.

We formally request that the rulemaking be instituted to provide for adequate regulations specifically addressing the unique needs of ferrets as has been done for other species. The above parties are available and willing to provide their experience and expertise to see that fair, legal, and adequate regulations be drafted.

We ask that the agency take immediate action to remedy these violations of the Animal Welfare Act.

We are asking the public to comment on the petition, and as to whether they agree or disagree with the petitioner that specific standards should be promulgated for the humane handling, care, treatment, and transportation of domestic ferrets, and what should be included in these standards. In particular, we are soliciting comments on the following issues:

1. Should specific standards be implemented for the welfare of domestic ferrets? If yes, please explain what standards you believe are needed and how they will ensure ferret welfare (for example: cage size, number of animals shipped together, minimum/maximum temperatures, ventilation, transportation age, etc., and how these standards will prevent aggressive behavior, reduce stress on the animal, promote health, etc.).

2. What specific problems have dealers, exhibitors, or research facilities had with the current handling, care, treatment, and transportation standards that apply to ferrets and how would ferret-specific standards eliminate them?

3. Should there be minimum age requirements for the transportation of domestic ferrets, and, if so, what factors should be considered in determining those requirements?

We welcome all comments on the petition and the issues outlined above and encourage the submission of proposals for specific standards for the humane handling, care, treatment, and transportation of domestic ferrets. We also ask commenters to submit data on the costs and benefits of their recommendations. We will consider all comments and recommendations we receive.

This action has been determined to be significant for the purposes of Executive Order 12866 and, therefore, has been reviewed by the Office of Management and Budget.

Authority: 7 U.S.C. 2131-2159; 7 CFR 2.22, 2.80, and 371.7.

Done in Washington, DC, this 1st day of August, 2005.
Bill Hawks,
Under Secretary for Marketing and Regulatory Programs.

[FR Doc. 05-15516 Filed 8-4-05; 8:45 am]

BILLING CODE 3410-34-P